DEPARTMENT OF THE INTERIOR

Bureau of Land Management

[CA-610-5101-ER-XBCH; CA-17918]

Notice of Right-of-Way Application; California

AGENCY: Bureau of Land Management, Interior.

ACTION: Notice.

SUMMARY: An application, serialized as CA-17918, was received from the Kern River Transmission Company (Kern River) for a natural gas pipeline right-of-way from Kern River's Opal Meter Station in Southwest Wyoming, across Utah and Nevada to the Kern River Daggett Compressor Station in Southern California.

Notice is hereby given that, pursuant to section 28 of the Mineral Leasing Act of 1920 (30 U.S.C. 185), as amended by the Act of November 16, 1973, (37 Stat. 576), Kern River has applied for a right-of-way for 42 inch and 36 inch diameter pipelines on approximately 345 miles of Federal lands. The pipeline has a total length of approximately 720 miles. The project would parallel/loop an existing pipeline and will accommodate projected volume needs. The legal land description is not presented here due to its length. Maps of the project are available at Bureau of Land Management and Forest Service offices located on the route.

The purpose of this notice is to inform the public of the receipt of the application and that the Bureau of Land Management will be making a decision on approval of the right-of-way, and if so, under what terms and conditions. An Environmental Impact Statement is being prepared under direction of the Federal Energy Regulatory Commission, lead agency for the project. The Bureau of Land Management is a cooperating agency.

Additional information can be obtained by contacting Jerry Crockford at (505) 599-6333 or on electronic mail at jcrockfo@nm.blm.gov.

Dated: August 17, 2001.
James Wesley Abbott,
Acting State Director, California.

[FR Doc. 01-25528 Filed 10-10-01; 8:45 am]

BILLING CODE 4310-40-P